DEPARTMENT OF LABOR

Mine Safety and Health Administration

Brookwood-Sago Mine Safety Grants

AGENCY: Mine Safety and Health Administration, Labor.

ACTION: Funding Opportunity Announcement (FOA).

Announcement Type: New

Funding Opportunity Number: FOA BS-2018-1

Catalog of Federal Domestic Assistance (CFDA) Number: 17.603

SUMMARY: The U.S. Department of Labor (DOL), Mine Safety and Health Administration (MSHA), is making up to $250,000 available in grant funds for education and training programs to help identify, avoid, and prevent unsafe working conditions in and around mines. The focus of these grants for Fiscal Year (FY) 2018 will be training and training materials on powered haulage safety, examinations of working places at metal and nonmetal mines, or mine emergency prevention and preparedness. Applicants for the grants may be States and Territories (to include the District of Columbia, the Commonwealth of Puerto Rico, the Virgin Islands, American Samoa, Guam, and the Commonwealth of the Northern Mariana Islands) and private or public nonprofit entities, to include Indian tribes, tribal organizations, Alaska Native entities, Indian-controlled organizations serving Indians, and Native Hawaiian organizations. MSHA could award as many as 5 grants. The amount of each individual grant will be at least $50,000 and the maximum individual award will be $250,000.

In addition, GSA has implemented new procedures for the System for Award Management (SAM) registration process to prevent fraud. These procedures, as of April 27, 2018, require new entities and entities renewing or updating their registration to submit an original, signed notarized letter confirming the authorized Entity Administrator before the SAM registration will be active. All applicants need an active SAM registration to apply for the grant under this FOA and should plan accordingly because these procedures may increase the time before an applicant may receive an active registration notice.

This notice contains all of the information needed to apply for grant funding.

DATES: The closing date for applications will be 30 days after date posted (no later than 11:59 p.m. EDST). MSHA will award grants on or before September 28, 2018.

ADDRESSES: Grant applications for this competition must be submitted electronically through the Grants.gov site at www.grants.gov. If applying online poses a hardship to any applicant, the MSHA Directorate of Educational Policy and Development will provide assistance to help applicants submit online.

FOR FURTHER INFORMATION CONTACT: Any questions regarding this FOA BS-2018-1 should be directed to Janice Oates at oates.janice@dol.gov or 202-693-9573 (this is not a toll-free number) or Krystle Mitchell at Mitchell.Krystle@dol.gov or 202-693-9570 (this is not a toll-free number).

SUPPLEMENTARY INFORMATION: This solicitation provides background information and the requirements for projects funded under the solicitation. This solicitation consists of eight parts:

• Part I provides background information on the Brookwood-Sago grants.

• Part II describes the size and nature of the anticipated awards.

• Part III describes the qualifications of an eligible applicant.

• Part IV provides information on the application and submission process.

• Part V explains the review process and rating criteria that will be used to evaluate the applications.

• Part VI provides award administration information.

• Part VII contains MSHA contact information.

• Part VIII addresses Freedom of Information Act requests and Office of Management and Budget (OMB) information collection requirements.

I. Program Description

A. Overview of the Brookwood-Sago Mine Safety Grant Program

Under Section 14 of the MINER Act, the Secretary of Labor (Secretary) is required to establish a competitive grant program called the “Brookwood-Sago Mine Safety Grants” (Brookwood-Sago grants). 30 U.S.C. 965. This program provides funding for education and training programs to better identify, avoid, and prevent unsafe working conditions in and around mines. This program will use grant funds to establish and implement education and training programs or to create training materials and programs. The MINER Act requires the Secretary to give priority to mine safety demonstrations and pilot projects with broad applicability. It also mandates that the Secretary emphasize programs and materials that target miners in smaller mines, including training mine operators and miners on new MSHA standards, high-risk activities, and other identified safety priorities.

B. Education and Training Program Priorities

MSHA priorities for the FY 2018 funding of the annual Brookwood-Sago grants will focus on powered haulage safety, examinations of working places at metal and nonmetal mines, or mine emergency prevention and preparedness. MSHA expects Brookwood-Sago grantees to develop training materials or to develop and provide mine safety training or educational programs, recruit mine operators and miners for the training, and conduct and evaluate the training. MSHA will give special emphasis to programs and materials that target workers at smaller mines, including training miners and employers about new MSHA standards, high risk activities, or hazards identified by MSHA.

MSHA expects Brookwood-Sago grantees to conduct follow-up evaluations with the people who received training in their programs to measure how the training promotes the Secretary's goal to “promote safe jobs and fair workplaces for all Americans” and MSHA's goal to “prevent fatalities, disease, and injury from mining and secure safe and healthful working conditions for America's miners.” Evaluations will focus on determining how effective their training was in either reducing hazards, improving skills for the selected training topics, or in improving the conditions in mines. Grantees must also cooperate fully with MSHA evaluators of their programs which may include data collection or provision of training curricula, materials, or mechanisms.

II. Federal Award Information

A. Award Amount for FY 2018

MSHA is providing up to $250,000 for the 2018 Brookwood-Sago grant program which could be awarded in a maximum of 5 separate grants of no less than $50,000 each. Applicants requesting less than $50,000 or more than $250,000 for a 12-month performance period will not be considered for funding.

B. Period of Performance

The performance period for these grants is September 30, 2018, through September 29, 2019. MSHA may approve a request for a one time no-cost extension to grantees for an additional period from the expiration date of the annual award based on the success of the project and other relevant factors. See 2 CFR 200.308(d)(2).

III. Eligibility Information

A. Eligible Applicants

Applicants for the grants may be States and Territories (to include the District of Columbia, the Commonwealth of Puerto Rico, the Virgin Islands, American Samoa, Guam, and the Commonwealth of the Northern Mariana Islands) and private or public nonprofit entities, to include Indian tribes, tribal organizations, Alaska Native entities, Indian-controlled organizations serving Indians, and Native Hawaiian organizations. Eligible entities may apply for funding independently or in partnership with other eligible organizations. For partnerships, a lead organization must be identified.

Applicants other than States, Territories, State-supported or local government-supported institutions of higher education, and tribal governments and tribal-supported institutions of higher education, will be required to submit evidence of nonprofit status, preferably from the Internal Revenue Service (IRS). A nonprofit entity as described in 26 U.S.C. 501(c)(4), which engages in lobbying activities, is not eligible for a grant award. See 2 U.S.C. 1611.

B. Legal Rules Pertaining to Inherently Religious Activities by Organizations That Receive Federal Financial Assistance

The government generally is prohibited from providing direct Federal financial assistance for inherently religious activities. See 29 CFR part 2, subpart D. Grants under this solicitation may not be used for religious instruction, worship, prayer, proselytizing, or other inherently religious activities. Neutral, non-religious criteria that neither favor nor disfavor religion will be employed in the selection of grant recipients and must be employed by grantees in the selection of contractors and subcontractors.

C. Cost-Sharing or Matching

Cost-sharing or matching of funds is not required for eligibility.

IV. Application and Submission Information

A. Application Packages

This announcement includes all information, including forms, regulations, and links needed to apply for this funding opportunity. The full application is available through the Grants.gov website, www.grants.gov, and the FedConnect.net portal. Applicants, however, must apply for this funding opportunity through the Grants.gov website. You may request paper copies of the package by contacting the Directorate of Educational Policy and Development at 202-693-9570.

For Grants.gov, click the “Applicants” tab, click the “Apply for Grants” tab, and enter the “Funding Opportunity Number” and the Grant.gov's descriptive category, “Opportunity Category,” and click the search button. The Funding Opportunity Number is BS-2018-1 and Opportunity Category is “discretionary.” You may also click “Search Grants,” and enter the “Funding Opportunity Number,” the “Catalog of Federal Domestic Assistance” (CFDA), or both, and click the search button. The CFDA number for this opportunity is 17.603. If an applicant has problems downloading the application package from Grants.gov, contact the Grants.gov Contact Center at 1-800-518-4726 or by email at support@grants.gov.

The full application package is also available online at FedConnect.net portal, https://www.fedconnect.net. Click the “Search Public Opportunities Only” section, enter the Title or FOA number of the document, and click search to find the application package.

If applying online poses a hardship to any applicant, please notify the MSHA Directorate of Educational Policy and Development as early as possible and we will provide assistance to help applicants submit online and provide any applicable notices.

For the FedConnect.net portal, an applicant will register in FedConnect at https://www.fedconnect.net. To create an organization account, your organization's System Award Management (SAM) Marketing Partner ID number (MPIN) is required. (See Section IV.C regarding new procedures for SAM Entity Administrator.) Only the SAM Entity Administrator for an entity may view the MPIN. For more information about registering in FedConnect, review DOL's Grant Management System Modernization Guide at https://www.msha.gov/sites/default/files/Training_Education/Grants%20Management%20System%20Modernization.pdf (copy and paste link) or on MSHA's website, www.msha.gov (Select “Training and Education,” click “Training Programs and Courses,” then select “Grant Management System Modernization”).

1. FOA Modifications

MSHA will post any modifications to this announcement on Grants.gov and the FedConnect.net portal. FedConnect.net will provide an email notice of a modification or an announcement message if an applicant registers in FedConnect.net as an interested party for this FOA. If you request paper copies of the FOA or notify MSHA regarding hardship in applying online, MSHA will attempt to notify you timely of any modifications with the contact information provided.

2. Questions

Questions regarding the content of the announcement must be submitted through the FedConnect.net portal. You must register with FedConnect to submit questions, and to view responses to questions. It is recommended that you register as soon after release of the FOA as possible.

Questions relating to the Grants.gov registration process, system requirements, how an application form works, or the submittal process must be directed to Grants.gov at 1-800-518-4726 or support@grants.gov.

If applying online poses a hardship to any applicant, please notify the MSHA Directorate of Educational Policy and Development as early as possible. Program questions should be submitted to the MSHA contacts listed in Section VII of this FOA.

B. Content and Form of the FY 2018 Application

Each grant application must address powered haulage safety, examinations of working places at metal and nonmetal mines, or other programs to prevent unsafe conditions in and around mines. The application must consist of three separate and distinct sections. The three required sections are:

• Section 1—Project Forms and Financial Plan (No page limit).

• Section 2—Executive Summary (Not to exceed two pages).

• Section 3—Technical Proposal (Not to exceed 12 pages). Illustrative material can be submitted as an attachment.

The following are mandatory requirements for each section.

1. Project Forms and Financial Plan

This section contains the forms and budget section of the application. The Project Financial Plan will not count against the application page limits. A person with authority to bind the applicant must sign the grant application and forms. Applications submitted electronically through Grants.gov do not need to be signed manually; electronic signatures will be accepted. All the following forms are part of the application package on Grants.gov and FedConnect.net portal and on MSHA's website, www.msha.gov: (Select “Training and Education,” click on “Training Programs and Courses,” then select “Brookwood-Sago Mine Safety Grants”).

(a) Completed SF-424, “Application for Federal Assistance,” (OMB No. 4040-0004, expiration: 12/31/2019). The SF-424 must identify the applicant clearly and be signed by an individual with authority to enter into a grant agreement. Upon confirmation of an award, the individual signing the SF-424 on behalf of the applicant shall be considered the representative of the applicant.

(b) Completed SF-424A, “Budget Information for Non-Construction Programs,” (OMB No. 4040-0006, expiration: 01/31/2019) and budget narrative. The project budget should demonstrate clearly that the total amount and distribution of funds is sufficient to cover the cost of all major project activities identified by the applicant in its proposal, and must comply with the Federal cost principles and the administrative requirements set forth in this FOA. (Copies of all regulations that are referenced in this FOA are available online at Grants.gov, FedConnect.net portal, and on MSHA website, www.msha.gov: (Select “Training and Education,” click on “Training Programs and Courses,” then select “Brookwood-Sago Mine Safety Grants”). The applicant must provide a concise narrative explaining the request for funds. The budget narrative should separately attribute the Federal funds to each of the activities specified in the technical proposal and if charging administrative costs as direct costs to the program, the budget narrative should discuss precisely how any administrative costs support the project goals. See 2 CFR 200.413(c).

If applicable, the applicant must provide a statement about its program income. See 2 CFR 200.80 and 200.307 and this FOA, Part IV.F.1(a) and (b).

The amount of Federal funding requested for the entire period of performance must be shown on the SF-424 and SF-424A forms.

(c) Completed SF-424B, “Assurances for Non-Construction Programs,” (OMB No. 4040-0007, expiration: 01/31/2019). Each applicant for these grants must certify compliance with a list of assurances.

(d) Completed Supplemental Certification Regarding Lobbying Activities Form, if applicable. If any funds have been paid or will be paid to any person for influencing or attempting to influence an officer or employee of any agency, a member of Congress, an officer or employee of Congress, or an employee of a member of Congress in connection with the making of a grant or cooperative agreement, the applicant shall complete and submit SF-LLL, “Disclosure Form to Report Lobbying, “(OMB No. 4040-0013, expiration: 01/31/2019) in accordance with its instructions.

(e) Non-profit status. Applicants must provide evidence of non-profit status, preferably from the IRS, if applicable.

(f) Accounting System Certification. Under the authority of 2 CFR 200.207, MSHA requires that a new applicant that receives less than $1 million annually in Federal grants attach a certification stating that the organization (directly or through a designated qualified entity) has a functioning accounting system that meets the criteria below. The certification should attest that the organization's accounting system provides for the following:

(1) Accurate, current, and complete disclosure of the financial results of each federally sponsored project.

(2) Records that adequately identify the source and application of funds for federally sponsored activities.

(3) Effective control over and accountability for all funds, property, and other assets.

(4) Comparison of outlays with budget amounts.

(5) Written procedures to minimize the time elapsing between transfers of funds.

(6) Written procedures for determining the reasonableness, allocability, and allowability of costs.

(7) Accounting records, including cost accounting records that are supported by source documentation.

(g) Attachments. The application may include attachments such as resumes of key personnel or position descriptions, exhibits, information on prior government grants, and signed letters of commitment to the project.

2. Executive Summary

The executive summary is a short one to two page abstract that succinctly summarizes the proposed project. The executive summary must include the following information:

(a) Applicant. Provide the organization's full legal name and address.

(b) Funding requested. List how much Federal funding is being requested.

(c) Grant Topic. List the grant topic and the location and number of mine operators and miners that the organization has selected to train or describe the training materials or equipment to be created with these funds.

(d) Program Structure. Identify the type of grant as “annual.”

(e) Summary of the Proposed Project. Write a brief summary of the proposed project. This summary must identify the key points of the proposal, including an introduction describing the project activities and each milestone with the expected results.

3. Technical Proposal

The technical proposal must demonstrate the applicant's capabilities to plan and implement a project or create educational materials to meet the objectives of this solicitation. MSHA's focus for these grants is on training mine operators and miners and developing training materials on powered haulage safety, examinations of working places in metal and nonmetal mines, or other programs to prevent unsafe conditions in and around mines. MSHA shall give special emphasis to programs and materials that target miners at smaller mines, including training miners and employers about new MSHA standards, high risk activities, or hazards identified by MSHA. A Department of Labor Strategic Goal is to “Promote Safe Jobs and Fair Workplaces for All Americans” through the strategic objective to “secure safe and healthful workplaces, particularly in high-risk industries.” MSHA has a performance goal to “prevent fatalities, disease, and injury from mining and secure safe and healthful work conditions for America's miners.” MSHA's award of the Brookwood-Sago grants supports these goals and strategies. To show how the grant projects promote these goals and strategies, grantees must report, at each quarter, the following information (as applicable):

Number of trainers trained

Number of mine operators and miners trained

Number of training events

Number of course days of training provided to industry

Course evaluations of trainer and training material

Description of training materials created, to include target audience, goals and objectives, and usability in the mine training environment

The technical proposal narrative must not exceed 12 single-sided, double-spaced pages, using 12-point font, and must contain the following sections: Program Design, Overall Qualifications of the Applicant, and Output and Evaluation. Any pages over the 12-page limit will not be reviewed. Attachments to the technical proposal are not counted toward the 12-page limit. Major sections and sub-sections of the proposal should be divided and clearly identified.

MSHA will review and rate the technical proposal in accordance with the selection criteria specified in Part V.

(a) Program Design

(1) Statement of the Problem/Need for Funds. Applicants must identify a clear and specific need for proposed activities. They must identify whether they are providing a training program, creating training materials, or both. Applicants also must identify the number of individuals expected to benefit from their training and education program; this should include identifying the type of mines, the geographic locations of the training, and the number of mine operators and miners.

(i) Quality of the Project Design

MSHA requires that each applicant include a 12-month workplan that correlates with the grant project period that will begin no later than September 30, 2018 and end no later than September 29, 2019.

(ii) Plan Overview

Describe the plan for grant activities and the anticipated results. The plan should describe such things as the development of training materials, the training content, recruiting of trainees, where or how training will take place, and the anticipated benefits to mine operators and miners receiving the training.

(iii) Activities

Break the plan down into activities or tasks for each quarter. For each activity, explain what will be done, who will do it, when it will be done, and the anticipated results of the activity. For training, discuss the subjects to be taught, the length of the training sessions, type of training (e.g., powered haulage safety, examinations of working places at metal and nonmetal mines, and mine emergency prevention and preparedness), and training locations (e.g., classroom, worksites). Describe how the applicant will recruit mine operators and miners for the training. (Note: Any commercially developed training materials the applicant proposes to use in its training must undergo an MSHA review before being used).

(iv) Quarterly Projections

For training and other quantifiable activities, estimate the quantities involved for data required to meet the grant goals located in Part IV.B.3. For example, estimate how many classes will be conducted and how many mine operators and miners will be trained each quarter of the grant. Also, provide the training number totals for the full year. Quarterly projections are used to measure the actual performance against the plan. A quarterly technical project report is due 30 days after the end of each quarter. Applicants planning to conduct a train-the-trainer program should estimate the number of individuals to be trained during the grant by those who received the train-the-trainer training. These second-tier training numbers should be included only if the organization is planning to follow up with the trainers to obtain this data during the grant.

(v) Materials

Describe each educational material to be produced under this grant. Provide a timetable, including milestones, for developing and producing the material. The timetable must include provisions for an MSHA review of draft and camera-ready products or evaluation of equipment. MSHA must review and approve training materials or equipment for technical accuracy and suitability of content before use in the grant program. Whether or not an applicant's project is to develop training materials only, the applicant should provide an overall plan that includes time for MSHA to review any materials produced.

(b) Qualifications of the Applicant

(1) Applicant's Background

Describe the applicant, including its mission, and a description of its membership, if any. Provide an organizational chart (the chart may be included as a separate page which will not count toward the page limit). Identify the following:

(i) Project Director

The Project Director is the person who will be responsible for the day-to-day operation and administration of the program. Provide the name, title, street address and mailing address (if it is different from the organization's street address), telephone and fax numbers, and email address of the Project Director.

(ii) Certifying Representative or Authorizing Organization Representative (AOR)

The Certifying Representative or the AOR is the official in the organization who is authorized to enter into grant agreements. Provide the name, title, street address and mailing address (if it is different from the organization's street address), telephone and fax numbers, and email address of the Certifying Representative or AOR.

(2) Administrative and Program Capability

Briefly describe the organization's functions and activities, i.e., the applicant's management and internal controls. Relate this description of functions to the organizational chart. If the applicant has received any other government (Federal, State or local) grant funding, the application must have, as an attachment (which will not count towards the page limit), information regarding these previous grants. This information must include each organization for which the work was done and the dollar value of each grant. If the applicant does not have previous grant experience, it may partner with an organization that has grant experience to manage the grant. If the organization uses this approach, the management organization must be identified and its grant program experience discussed. Lack of past experience with Federal grants is not a determining factor, but an applicant should show a successful experience relevant to the opportunity offered in the application. Such experience could include staff members' experiences with other organizations.

(3) Program Experience

Describe the organization's experience conducting the proposed mine training program or other relevant experience. Include program specifics such as program title, numbers trained, and duration of training. If creating training materials, include the title of other materials developed. Nonprofit organizations, including community-based and faith-based organizations that do not have prior experience in mine safety, may partner with an established mine safety organization to acquire safety expertise.

(4) Staff Experience

Describe the qualifications of the professional staff you will assign to the program. Attach resumes of staff already employed (resumes will not count towards the page limit). If some positions are vacant, include position descriptions and minimum hiring qualifications instead of resumes. Staff should have, at a minimum, mine safety experience, training experience, or experience working with the mining community.

(c) Outputs and Evaluations

There are two types of evaluations that must be conducted. First, describe the methods, approaches, or plans to evaluate the training sessions or training materials to meet the data requirements in Part IV.B.3. Second, describe plans to assess the long-term effectiveness of the training materials or training conducted. The type of training given will determine whether the evaluation should include a process-related outcome or a result-related outcome or both. This will involve following up with an evaluation, or on-site review, if feasible, of miners trained. The evaluation should focus on what changes the trained miners made to abate hazards and improve workplace conditions, or to incorporate this training in the workplace, or both.

For training materials, include an evaluation from individuals trained on the clarity of the presentation, organization, and the quality of the information provided on the subject matter and whether they would continue to use the training materials. Include timetables for follow-up and for submitting a summary of the assessment results to MSHA.

C. Dun and Bradstreet Universal Numbering System (DUNS) Number and System for Award Management (SAM)—Required

Under 2 CFR 25.200(b)(3), every applicant for a Federal grant is required to include a DUNS number with its application. The DUNS number is a nine-digit identification number that uniquely identifies business entities. An applicant's DUNS number is to be entered into Block 8 of Standard Form (SF) 424. There is no charge for obtaining a DUNS number. To obtain a DUNS number, call 1-866-705-5711 or access the following website: https://fedgov.dnb.com/webform.

After receiving a DUNS number, all grant applicants must register as a vendor with the System for Award Management (SAM) through the website www.sam.gov. Grant applicants must create a user account and register online. In addition, GSA has implemented new procedures for the SAM registration process to prevent fraud. These procedures, as of April 27, 2018, require new entities and entities renewing or updating their registration to submit an original, signed notarized letter confirming the authorized Entity Administrator before the SAM registration will be active. https://www.sam.gov/portal/SAM/##11. All applicants need an active SAM registration to apply for the grant under this FOA and should plan accordingly because these procedures may increase the time before an applicant may receive an active registration notice.

Submitted registrations will take up to 10 business days to process, after which the applicant will receive an email notice that the registration is active. Once the registration is active in SAM it takes an additional 24-48 hours for the registration to be active in Grants.gov. SAM registrations must be renewed annually. SAM will send notifications to the registered user via email prior to expiration of the registration. Under 2 CFR 25.200(b)(2), each grant applicant must maintain an active registration with current information at all times during which it has an active Federal award or an application under active consideration.

D. Submission Date, Times, and Addresses

The closing date for applications will be 30 days after date posted (no later than 11:59 p.m. EDST). MSHA will award grants on or before September 28, 2018.

Grant applications must be submitted electronically through the Grants.gov website. The Grants.gov site provides all the information about submitting an application electronically through the site as well as the hours of operation. Interested parties can locate the downloadable application package by the FOA No. BS-2018-1 or by the CFDA No. 17.603.

1. Non-Compliant Applications

(a) Applications that are lacking any of the required elements or do not follow the format prescribed in IV.B. will not be reviewed.

(b) Late Applications.

You are cautioned that applications should be submitted before the deadline to ensure that the risk of late receipt of the application is minimized. Applications received after the deadline will not be reviewed unless it is determined to be in the best interest of the Government.

Applications received by Grants.gov are date and time stamped electronically. See https://www.grants.gov/help/html/help/ManageWorkspaces/Submit_a_Workspace_Package.htm.

An application must be fully uploaded and validated by the Grants.gov system before the application deadline date.

E. Intergovernmental Review

The Brookwood-Sago grants are not subject to Executive Order 12372, “Intergovernmental Review of Federal Programs.” MSHA reminds applicants that if they are not operating MSHA-approved State training grants, they should contact the State grantees and coordinate any training or educational program. Information about each state grant and the entity operating the state grant is provided online at: https://arlweb.msha.gov/TRAINING/STATES/STATES.asp

F. Funding Restrictions

MSHA will determine whether costs are allowable under the applicable Federal cost principles and other conditions contained in the grant award.

1. Allowable Costs

Grant funds may be spent on conducting training and outreach, developing educational materials, recruiting activities (to increase the number of participants in the program), and on necessary expenses to support these activities. Allowable costs are determined by the applicable Federal cost principles identified in Part VI.B, which are attachments in the application package, or are located online at https://www.fedconnect.net. Click the search public opportunities section, enter the Title or FOA number of the document, and click search. These documents are also located on www.msha.gov: (Select “Training and Education”, click on “Training Programs and Courses”, then select “Brookwood-Sago Mine Safety Grants.”) Paper copies of the material may be obtained by contacting the Directorate of Educational Policy and Development at 202-693-9570.

(a) If an applicant anticipates earning program income during the grant, the application must include an estimate of the income that will be earned. Program income earned must be reported on a quarterly basis.

(b) Program income is gross income earned by the grantee which is directly generated by a supported activity, or earned as a result of the award. Program income earned during the award period shall be retained by the grantee, added to funds committed to the award, and used for the purposes and under the conditions applicable to the use of the grant funds. See 2 CFR 200.80 and 200.307.

2. Unallowable Costs

Grant funds may not be used for the following activities under this grant program:

(a) Any activity inconsistent with the goals and objectives of this FOA

(b) Training on topics that are not targeted under this FOA

(c) Purchasing any equipment unless pre-approved and in writing by the MSHA grant officer

(d) Direct administrative costs that exceed 15% of the total grant budget

(e) Indirect costs that exceed 10% of the modified total direct costs (as defined in 2 CFR 200.68) or the grantee's federally negotiated indirect cost rate reimbursement

(f) Any pre-award costs

Unallowable costs also include any cost determined by MSHA as not allowed according to the applicable cost principles or other conditions in the grant.

V. Application Review Information for FY 2018 Grants

A. Evaluation Criteria

MSHA will screen all applications to determine whether all required proposal elements are present and clearly identifiable. Those that do not comply with mandatory requirements will not be evaluated. The technical panels will review grant applications using the following criteria:

1. Program Design—40 Points Total

(a) Statement of the Problem/Need for Funds (3 points)

The proposed training and education program or training materials must address powered haulage safety, examinations of working places at metal and nonmetal mines, or other programs to prevent unsafe conditions in and around mines

(b) Quality of the Project Design (25 points)

(1) The proposal to train mine operators and miners clearly estimates the number to be trained and clearly identifies the types of mine operators and miners to be trained.

(2) If the proposal contains a train-the-trainer program, the following information must be provided:

• Name or type of support the grantee will provide to new trainers.

• The number of individuals to be trained as trainers.

• The estimated number of courses to be conducted by the new trainers.

• The estimated number of students to be trained by these new trainers and a description of how the grantee will obtain data from the new trainers documenting their classes and student numbers if conducted during the grant.

(3) The work plan activities and training are described.

• The planned activities and training are tailored to the needs and levels of the mine operators and miners to be trained. Any special constituency to be served through the grant program is described, e.g., smaller mines, limited English proficiency miners, etc. Organizations proposing to develop materials in languages other than English also will be required to provide an English version of the materials.

• If the proposal includes developing training materials, the work plan must include time during development for MSHA to review the educational materials for technical accuracy and suitability of content. If commercially developed training products will be used for a training program, applicants should also plan for MSHA to review the materials before using the products in their grant programs.

• The utility of the educational materials is described.

• The outreach or process to find mine operators, miners, or trainees to receive the training is described.

(c) Replication (4 points)

The potential for a project to serve a variety of mine operators, miners, or mine sites, or the extent others may replicate the project.

(d) Innovation (3 points)

The originality and uniqueness of the approach used.

(e) MSHA's Performance Goals (5 points)

The extent the proposed project will contribute to MSHA's performance goals.

2. Budget—20 Points Total

(a) The budget presentation is clear and detailed. (15 points)

The budgeted costs are reasonable.

• No more than 15% of the total budget is for direct administrative costs.

• Indirect costs do not exceed 10% of the modified total direct costs (as defined in 2 CFR 200.68) or the grantee's federally negotiated indirect cost rate reimbursement.

• The budget complies with Federal cost principles (which can be found in the applicable Office of Management and Budget (OMB) Uniform Administrative Requirements, Cost Principles, and Audit Requirements for Federal Awards and with MSHA budget requirements contained in the grant application instructions).

(b) The application demonstrates that the applicant has strong financial management and internal control systems. (5 points)

3. Overall Qualifications of the Applicant—25 Points Total

(a) Grant Experience (6 points)

The applicant has administered, or will work with an organization that has administered, a number of different Federal or State grants. The applicant may demonstrate this experience by having project staff that has experience administering Federal or State grants.

(b) Mine Safety Training Experience (13 points)

• The applicant applying for the grant demonstrates experience with mine safety teaching or providing mine safety educational programs. Applicants that do not have prior experience in providing mine safety training to mine operators or miners may partner with an established mine safety organization to acquire mine safety expertise.

• Project staff has experience in mine safety, the specific topic chosen, or in training mine operators and miners.

• Project staff has experience in recruiting, training, and working with the population the organization proposes to serve.

• Applicant has experience in designing and developing mine safety training materials for a mining program.

• Applicant has experience in managing educational programs.

(c) Management (6 points)

Applicant demonstrates internal control and management oversight of the project.

4. Outputs and Evaluations—15 Points Total

The proposal should include provisions for evaluating the organization's progress in accomplishing the grant work activities and accomplishments, evaluating training sessions, and evaluating the program's effectiveness and impact to determine if the safety training and services provided resulted in workplace change or improved workplace conditions. The proposal should include a plan to follow up with trainees to determine the impact the program has had in abating hazards and reducing miner illnesses and injuries.

B. Review and Selection Process for FY 2018 Grants

A technical panel will rate each complete application against the criteria described in this FOA. One or more applicants may be selected as grantees on the basis of the initial application submission or a minimally acceptable number of points may be established. MSHA may request final revisions to the applications, and then evaluate the revised applications. MSHA may consider any information that comes to its attention in evaluating the applications.

The panel recommendations are advisory in nature. The Deputy Assistant Secretary for Operations for Mine Safety and Health will make a final selection determination based on what is most advantageous to the government, considering factors such as panel findings, geographic presence of the applicants or the areas to be served, Agency priorities, and the best value to the government, cost, and other factors. The Deputy Assistant Secretary's determination for award under this FOA is final.

C. Anticipated Announcement and Award Dates

Announcement of the awards is expected to occur before September 28, 2018. The grant agreement will be signed no later than September 28, 2018.

VI. Award Administration Information

A. Award Process

Before September 28, 2018, organizations selected as potential grant recipients will be notified by a representative of the Deputy Assistant Secretary. An applicant whose proposal is not selected will be notified in writing. The fact that an organization has been selected as a potential grant recipient does not necessarily constitute approval of the grant application as submitted (revisions may be required).

Before the actual grant award and the announcement of the award, MSHA may enter into negotiations with the potential grant recipient concerning such matters as program components, staffing and funding levels, and administrative systems. If the negotiations do not result in an acceptable submittal, the Deputy Assistant Secretary reserves the right to terminate the negotiations and decline to fund the proposal.

B. Administrative and National Policy Requirements

All grantees will be subject to applicable Federal laws and regulations (including provisions of appropriations law). These requirements are attachments in the application package or are located online at https://www.fedconnect.net (Click the search public opportunities section, enter the Title or FOA number of the document, and click search.) or at www.msha.gov: (Select “Training and Education”, click on “Training Programs and Courses”, then select “Brookwood-Sago Mine Safety Grants.”) The grants awarded under this competitive grant program will be subject to the following administrative standards and provisions, if applicable:

• 2 CFR part 25, Universal Identifier and System for Award Management.

• 2 CFR part 170, Reporting Subawards and Executive Compensation Information.

• 2 CFR part 175, Award Term for Trafficking in Persons.

• 2 CFR part 180, OMB Guidelines to Agencies on Governmentwide Debarment and Suspension (Nonprocurement) (Nov. 15, 2006).

• 2 CFR part 200, Uniform Administrative Requirements, Cost Principles, and Audit Requirements for Federal Awards (Dec. 19, 2014).

• 2 CFR part 2900, Uniform Administrative Requirements, Cost Principles, and Audit Requirements for Federal Awards.

• 2 CFR part 2998, Nonprocurement Debarment and Suspension.

• 29 CFR part 2, subpart D, Equal Treatment in Department of Labor Programs for Religious Organizations; Protection of Religious Liberty of Department of Labor Social Service Providers and Beneficiaries.

• 29 CFR part 31, Nondiscrimination in federally assisted programs of the Department of Labor—Effectuation of Title VI of the Civil Rights Act of 1964.

• 29 CFR part 32, Nondiscrimination on the basis of handicap in programs or activities receiving federal financial assistance.

• 29 CFR part 33, Enforcement of nondiscrimination on the basis of handicap in programs or activities conducted by the Department of Labor.

• 29 CFR part 35, Nondiscrimination on the basis of age in programs or activities receiving federal financial assistance from the Department of Labor.

• 29 CFR part 36, Nondiscrimination on the basis of sex in education programs or activities receiving federal financial assistance.

• 29 CFR part 93, New restrictions on lobbying.

• 29 CFR part 94, Government-wide requirements for drug-free workplace (financial assistance).

• Federal Acquisition Regulation (FAR) Part 31, Subpart 31.2, Contract cost principles and procedures (Codified at 48 CFR Subpart 31.2).

Unless specifically approved, MSHA's acceptance of a proposal or MSHA's award of Federal funds to sponsor any program does not constitute a waiver of any grant requirement or procedure. For example, if an application identifies a specific sub-contractor to provide certain services, the MSHA award does not provide a basis to sole-source the procurement (to avoid competition).

C. Special Program Requirements

1. MSHA Review of Educational Materials

MSHA will review all grantee-produced educational and training materials for technical accuracy and suitability of content during development and before final publication. MSHA also will review training curricula and purchased training materials for technical accuracy and suitability of content before the materials are used. Grantees developing training materials must follow all copyright laws and provide written certification that their materials are free from copyright infringement.

When grantees produce training materials, they must provide copies of completed materials to MSHA before the end of the grant. Completed materials should be submitted to MSHA in hard copy and in digital format for publication on the MSHA website. Two copies of the materials must be provided to MSHA. Acceptable formats for training materials include Microsoft XP Word, PDF, PowerPoint, and any other format agreed upon by MSHA.

2. License

As stated in 2 CFR 200.315 and 2 CFR 2900.13, the Department of Labor has a royalty-free, nonexclusive, and irrevocable right to reproduce, publish, or otherwise use for Federal purposes any work produced, or for which ownership was acquired, under a grant, and to authorize others to do so. Such products include, but are not limited to, curricula, training models, and any related materials. Such uses include, but are not limited to, the right to modify and distribute such products worldwide by any means, electronic, or otherwise.

3. Acknowledgement on Printed Materials

All approved grant-funded materials developed by a grantee shall contain the following disclaimer: “This material was produced under grant number [insert grant number] from the Mine Safety and Health Administration, U.S. Department of Labor. It does not necessarily reflect the views or policies of the U.S. Department of Labor, nor does mention of trade names, commercial products, or organizations imply endorsement by the U.S. Government.”

When issuing statements, press releases, request for proposals, bid solicitations, and other documents describing projects or programs funded in whole or in part with Federal money, all grantees receiving Federal funds must clearly state:

(a) The percentage of the total costs of the program or project that will be financed with Federal money;

(b) The dollar amount of Federal financial assistance for the project or program; and

(c) The percentage and dollar amount of the total costs of the project or program that will be financed by non-governmental sources.

4. Use of U.S. Department of Labor (USDOL) or MSHA Logo

With written permission from MSHA, the USDOL and MSHA logos may be applied to the grant-funded materials including posters, videos, pamphlets, research documents, national survey results, impact evaluations, best practice reports, and other publications. The grantees must consult with MSHA on whether the logos may be used on any such items prior to final draft or final preparation for distribution. In no event shall the DOL or MSHA logo be placed on any item until MSHA has given the grantee written permission to use the logos on the item.

5. Reporting

Grantees are required by Departmental regulations to submit financial and project reports, as described below. Grantees are also required to submit final reports no later than 90 days after the end of the grant.

(a) Financial Reports

The grantee shall submit financial reports on a quarterly basis. Recipients are required to use the U.S. Department of Labor's Grantee Reporting Systems' electronic SF-425 (Federal Financial Report), (OMB No. 4040-0014, expiration: 1/31/2019), at https://www.fedconnect.net, to report the status of all funds awarded and, if applicable, program income received and expended, during the funding period. FedConnect will receive a prepopulated SF-425 form at the end of each quarter to be filled out, saved, and uploaded to submit to MSHA. All reports are due no later than 30 days after the end of the reporting period.

(b) Technical Project Reports

A grantee must submit a quarterly technical project report to MSHA no later than 30 days after December 31, 2018, March 31, 2019, June 30, 2019, and September 30, 2019, respectively. Technical project reports provide both quantitative and qualitative information and a narrative assessment of performance for the preceding three-month period. This should include the current grant progress against the overall grant goals as provided in Part IV.B.3.

Between reporting dates, the grantee shall immediately inform MSHA of significant developments or problems affecting the organization's ability to accomplish the work. See 2 CFR 200.328(d).

(c) Final Reports

At the end of the grant, each grantee must provide a project summary of its technical project reports, an evaluation report, and a close-out financial report. These final reports are due no later than 90 days after the end of the grant.

VII. Agency Contacts

Program Office

Ms. Janice Oates, Management and Program Analyst, Educational Policy and Development, Mine Safety and Health Administration, U.S. Department of Labor, 201 12th Street South, 5th Floor Arlington, Virginia 22202, (202) 693-9573, (202) 693-9571 (FAX), Oates.Janice@dol.gov.

Dr. Krystle A. Mitchell, Deputy Director, Educational Policy and Development, Mine Safety and Health Administration, U.S. Department of Labor, 201 12th Street South, 5th Floor, Arlington, Virginia 22202, (202) 693-9570, (202) 693-9571 (FAX), Mitchell.Krystle.A@dol.gov.

Grants Office

Mr. Travis Munnerlyn, Grants Management Specialist, Mine Safety and Health Administration, U.S. Department of Labor, 201 12th Street South, 4th Floor, Arlington, Virginia 22202, (202) 693-9833, (202) 693-9801 (FAX), Munnerlyn.Travis@dol.gov.

Mr. Emmanuel Ekwo, Grant Officer, Mine Safety and Health Administration, U.S. Department of Labor, 201 12th Street South, 4th Floor, Arlington, Virginia 22202, (202) 693-9635, (202) 693-9801 (FAX), Ekwo.Emmanuel.M@dol.gov.

The telephone numbers listed above are not toll-free numbers.

VIII. Other Information

A. Freedom of Information Act

Any information submitted in response to this FOA will be subject to the provisions of the Freedom of Information Act, as appropriate.

B. Office of Management and Budget Information Collection Requirements

This FOA requests information from applicants and grantees. This collection of information is approved under OMB No. 1225-0086, expiration: 05/31/2019.

Except as otherwise noted, in accordance with the Paperwork Reduction Act of 1995, no person is required to respond to a collection of information unless such collection displays a valid OMB control number. Public reporting burden for the grant application is estimated to average 20 hours per response, for reviewing instructions, searching existing data sources, gathering, and maintaining the data needed, and completing and reviewing the collection of information. Each recipient who receives a grant award notice will be required to submit five progress reports to MSHA. MSHA estimates that each report will take approximately two and one-half hours to prepare.

Send comments regarding the burden estimated or any other aspect of this collection of information, including suggestions for reducing this burden, to the OMB Desk Officer for MSHA, Office of Management and Budget Room 10235, Washington DC 20503; the U.S. Department of Labor, OASAM-OCIO, Information Resources Program, Room N-1301, 200 Constitution Avenue, NW, Washington, DC 20210; and MSHA, electronically to Janice Oates at Oates.Janice@dol.gov or by mail to Janice Oates, 5th floor, 201 12th Street South, Arlington, VA 22202.

This information is being collected for the purpose of awarding a grant. Submission of this information is requested for the applicant to be considered for award of this grant.

Authority: 30 U.S.C. 965.

David G. Zatezalo,
Assistant Secretary of Labor for Mine Safety and Health.

[FR Doc. 2018-15685 Filed 7-20-18; 8:45 am]

BILLING CODE 4510-43-P